DEPARTMENT OF AGRICULTURE

Grain Inspection, Packers and Stockyards Administration

Designation of Minot Grain Inspection, Inc. To Provide Official Class X Weighing Services

AGENCY: Grain Inspection, Packers and Stockyards Administration, USDA.

ACTION: Notice.

SUMMARY: GIPSA is announcing the designation of Minot Grain Inspection, Inc. to provide official Class X weighing services under the United States Grain Standards Act, as amended (USGSA).

DATES: Effective Date: January 4, 2011.

ADDRESSES: Karen W. Guagliardo, Branch Chief, Review Branch, Compliance Division, GIPSA, USDA, STOP 3604, Room 1647-S, 1400 Independence Avenue, SW., Washington, DC 20250-3604.

FOR FURTHER INFORMATION CONTACT: Karen W. Guagliardo, 202-720-8262 or Karen.W.Guagliardo@usda.gov.

SUPPLEMENTARY INFORMATION: GIPSA reviewed this action and determined it not to be a rule or regulation as defined in Executive Order 12866 and Departmental Regulation 1512-1; therefore, the Executive Order and Departmental Regulation do not apply to this action.

In the June 1, 2009, Federal Register (74 FR 26188), GIPSA announced the designation of Minot to provide official inspection services under the Act, effective July 1, 2009, and terminating June 30, 2012. Subsequently, Minot requested GIPSA amend their designation to include official weighing services. Section 7A(c)(2) of the Act authorizes GIPSA's Administrator to designate authority to perform official weighing to an agency providing official inspection services within a specified geographic area, if such agency is qualified under section 7(f)(1)(A) of the Act.

GIPSA evaluated all available information regarding the designation criteria in section 7(f)(1)(A) of the Act, and determined that Minot is qualified to provide official weighing services in their currently assigned geographic area. Minot's present designation is amended to include Class X weighing within their assigned geographic area, as specified in the June 1, 2009, Federal Register (74 FR 26188), effective January 4, 2011, and terminating June 30, 2012.

Under section 7(g)(1) of the USGSA, designations of official agencies are effective for no longer than 3 years unless terminated by the Secretary; however, designations may be renewed according to the criteria and procedures prescribed in section 7(f) of the Act.

Authority: 7 U.S.C. 71-87k.

J. Dudley Butler,
Administrator, Grain Inspection, Packers and Stockyards Administration.

[FR Doc. 2010-33141 Filed 1-3-11; 8:45 am]

BILLING CODE 3410-KD-P